DEPARTMENT OF HEALTH AND HUMAN SERVICES

Administration for Children and Families

Office of Refugee Resettlement

AGENCY: Office of Refugee Resettlement, ACF, DHHS.

ACTION: Notice of a Noncompetitive Successor Award to California Department of Public Health.

CFDA #: 93.576

Legislative Authority: This Program is authorized by section 412(b)(5) of the Immigration and Nationality Act (INA), as amended (8 U.S.C. 1522(b)(5)), which authorizes the Director to provide for medical screening and initial medical treatment.

Amount of Award: There are three years remaining in the project The remaining funds to be awarded is $1,425,000.

Project Period: July 1, 2006 through June 30, 2010.

SUMMARY: The purpose of the ORR award is to assist California in providing medical screenings in accordance with ORR guidance in State Letter 95-37, 11/21/95, and follow-up activities to newly arriving refugees for conditions of public health concern. California Senate Bill 162 established a new California Department of Public Health to take the place of the California Department of Health Services which ceased to exist. California requests that the funds be awarded to the new California Department of Public Health to carry out the remaining years of the project.

FOR FURTHER INFORMATION CONTACT: Further information regarding the request may be directed to Pam Green-Smith at 202-401-4531, pamela.greensmith@acf.hhs.gov.

Date: September 30, 2008.
David H. Siegel,
Acting Director, Office of Refugee Resettlement.

[FR Doc. E8-23479 Filed 10-3-08; 8:45 am]

BILLING CODE 4184-01-P